DEPARTMENT OF COMMERCE

National Oceanic and Atmospheric Administration

RIN 0648-XE848

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's Mackerel, Squid, and Butterfish Advisory Panel will meet to provide input on an Amendment that could affect the longfin and Illex squid fisheries.

DATES: The meeting will be held Tuesday, September 13, 2016, from 9 a.m. to 5 p.m.

ADDRESSES: The meeting will be held at the Radisson Hotel Providence Airport, 2081 Post Road Warwick, RI 02886; telephone: (401) 739-3000.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on the proposed agenda and briefing materials.

SUPPLEMENTARY INFORMATION: The Advisory Panel will provide input on an Amendment to the Atlantic Mackerel, Squid, and Butterfish Fishery Management Plan. The amendment could reduce the capacities of the longfin squid and Illex squid fleets. The Council is considering this action because of concern that activation of latent capacity in the squid fisheries could lead to excessive fishing effort and increased catch of non-target species. Several other issues are being considered as well: (1) New permits for Maine/northern states; (2) re-evaluation of longfin squid trimesters; and (3) longfin squid buffer zones (e.g. 10 miles) beyond state waters in the area south of Martha's Vineyard/Nantucket.

Special Accommodations

The meeting is physically accessible to people with disabilities. Requests for sign language interpretation or other auxiliary aid should be directed to M. Jan Saunders, (302) 526-5251, at least 5 days prior to the meeting date.

Dated: August 24, 2016.
Jeffrey N. Lonergan,
Acting Deputy Director, Office of Sustainable Fisheries, National Marine Fisheries Service.

[FR Doc. 2016-20692 Filed 8-26-16; 8:45 am]

BILLING CODE 3510-22-P